DEPARTMENT OF THE INTERIOR

Fish and Wildlife Service

[FWS-R4-ES-2021-N022; FXES11130400000C2-201-FF04E00000]

Endangered and Threatened Wildlife and Plants; Draft Recovery Plan for Agave eggersiana

AGENCY: Fish and Wildlife Service, Interior.

ACTION: Notice of availability and request for public comment.

SUMMARY: We, the U.S. Fish and Wildlife Service, announce the availability of the draft recovery plan for the Agave eggersiana, a plant listed as endangered under the Endangered Species Act. We request review and comment on this draft recovery plan from local, State, and Federal agencies; nongovernmental organizations; and the public.

DATES: We must receive comments by September 7, 2021.

ADDRESSES: Obtaining documents: You may obtain a copy of the plan by contacting Maritza Vargas, by mail at U.S. Fish and Wildlife Service, Caribbean Ecological Services Field Office, P.O. Box 491, Boquerón, PR 00622; by telephone at 787-851-7297; by the Federal Relay Service (TTY) at 1-800-877-8339. Alternatively, you may obtain a copy at http://www.fws.gov/southeast/caribbean.

Submitting comments: If you wish to comment, you may submit your comments by mail to the Caribbean Ecological Services Field Office, at the above address, or you may email comments to maritza_vargas@fws.gov. Please include “Agave eggersiana Draft Recovery Plan Comments” in the email subject line.

For additional information about submitting comments, see Public Comments below.

FOR FURTHER INFORMATION CONTACT: Maritza Vargas at 787-851-7297.

SUPPLEMENTARY INFORMATION: We, the U.S. Fish and Wildlife Service (Service), announce the availability for public review and comment of the draft recovery plan for Agave eggersiana, a plant listed as endangered under the Endangered Species Act (ESA; 16 U.S.C. 1531 et seq.). The draft recovery plan includes specific recovery objectives and criteria we have identified to better assist us in determining when the species has recovered to the point that it may be reclassified as threatened, or that the protections of the ESA are no longer necessary. We request review and comment on this draft recovery plan from local, State, and Federal agencies; nongovernmental organizations; and the public.

Background

Agave eggersiana (no common name) is a flowering plant of the Agavaceae family (century plant family). The species is restricted to six natural populations, and seven additional populations established in different areas known to be part of its historical range. These populations occur in small, disjunct areas on the northern and southern coasts of St. Croix in the U.S. Virgin Islands. Agave eggersiana commonly occurs on coastal cliffs with rocky formations covered with sparse vegetation and dry coastal scrubland vegetation communities that occur within the subtropical dry forest life zone.

The ESA states that a species may be listed as endangered or threatened based on one or more of the five factors outlined in section 4(a)(1) of the ESA. The greatest threats to Agave eggersiana are loss or degradation of habitat in unstable coastal cliffs (Listing Factor A) and competition with non-native vegetation for light and space via succession (Listing Factor E). The species' severely restricted range and small population increase the likelihood of stochastic events causing extirpation of stands or populations. As a result of these threats, Agave eggersiana was listed as endangered under the ESA on September 9, 2014 (79 FR 53303). Approximately 20.5 hectares (ha) (50.6 acres (ac)), distributed among 6 units on the northern and southern coasts of St. Croix, were designated as critical habitat on September 9, 2014 (79 FR 53315).

Recovery Plan

Section 4(f)(1) of the ESA requires the development of recovery plans for listed species, unless such a plan would not promote the conservation of a particular species. The purpose of a recovery plan is to provide an effective and feasible roadmap for a species' recovery, with the goal of improving its status and managing its threats to the point where the protections of the ESA are no longer needed. The ESA requires that, to the maximum extent practicable, recovery plans incorporate the following:

1. Objective, measurable criteria which, when met, would result in a determination that the species is no longer threatened or endangered;

2. Site-specific management actions necessary to achieve the plan's goal for conservation and survival of the species; and

3. Estimates of the time required and costs to implement recovery plans.

Recovery plans provide important guidance to the Service, States, other partners, and the general public on methods for minimizing threats to listed species, as well as objectives against which to measure the progress towards recovery. A recovery plan identifies, organizes, and prioritizes recovery actions and is an important guide that ensures sound scientific decision-making throughout the recovery process, which can take decades.

Section 4(f)(4) of the ESA requires us to provide public notice and an opportunity for public review and comment during recovery plan development. We will consider all information presented during a public comment period prior to approval of each new or revised recovery plan. We and other Federal agencies will take these comments into account in the course of implementing approved recovery plans.

The draft recovery plan describes actions necessary for the recovery of Agave eggersiana, establishes criteria for its delisting, and estimates the time and cost for implementing specific measures needed to recover the species. The ultimate goal of this draft recovery plan is to ensure the long-term viability of the Agave eggersiana in the wild to the point that it can be removed from the Federal List of Endangered and Threatened Plants in title 50 of the Code of Federal Regulations (50 CFR 17.12).

Recovery Criteria

The draft recovery plan proposes that the Agave eggersiana will be considered for delisting when:

1. The six existing natural populations on St. Croix (South Shore, Cane Garden Bay, Manchenil Bay, Protestant Cay, Great Pond, and West Vagthus Point) are protected through long-term conservation mechanisms (addresses Factors A, B, and E).

2. The six existing natural populations on St. Croix (South Shore, Cane Garden Bay, Manchenil Bay, Protestant Cay, Great Pond, and West Vagthus Point) show a stable or increasing trend, evidenced by natural recruitment and multiple age classes (addresses Factors A and E).

3. Ten new populations have been established on protected areas within the historical range of the species, showing a stable or increasing population trend, evidenced by natural recruitment and multiple age classes (addresses Factors A, C, and E).

4. Threats have been addressed and/or managed to the extent that the species will remain viable into the foreseeable future (addresses Factors A, B, C, D, and E).

Public Comments

We request written comments on the draft recovery plan. We will consider all comments we receive by the date specified in DATES prior to final approval of the plan.

Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act, 16 U.S.C. 1533(f).

Leopoldo Miranda-Castro,
Regional Director.

[FR Doc. 2021-14304 Filed 7-6-21; 8:45 am]

BILLING CODE 4333-15-P